DEPARTMENT OF LABOR

29 CFR Part 31

RIN 1291-AA31

Nondiscrimination on the Basis of Race, Color, or National Origin in Programs or Activities Receiving Federal Financial Assistance; Nondiscrimination on the Basis of Handicap in Programs or Activities Receiving Federal Financial Assistance; Nondiscrimination on the Basis of Age in Programs or Activities Receiving Federal Financial Assistance

Correction

In rule document 03-21140 beginning on page 51334 in the issue of Tuesday, August 26, 2003, make the following corrections:

§ 31.6 [Corrected]

1. On page 51367, in 31.6, in the table, in the column titled “Remove”, in the eighth line, “that program that” should read, “that program”.

2. On the same page, in the same section, in the same table, in the column titled “Add”, in the fourth line, “assistance” should read, “that assistance”.

[FR Doc. C3-21140 Filed 9-15-03; 8:45 am]

BILLING CODE 1505-01-D